DEPARTMENT OF EDUCATION

Privacy Act of 1974; System of Records—Evaluation of Conversion Magnet Schools

AGENCY: Institute of Education Sciences, Department of Education.

ACTION: Notice of a new system of records.

SUMMARY: In accordance with the Privacy Act of 1974, as amended (Privacy Act), the Department of Education (Department) publishes this notice of a new system of records entitled “Evaluation of Conversion Magnet Schools” (18-13-18). The National Center for Education Evaluation and Regional Assistance at the Department's Institute of Education Sciences (IES) commissioned this evaluation. IES awarded a contract to American Institutes for Research (AIR) and Berkeley Policy Associates (BPA) in September 2006 to conduct this evaluation. IES has been collaborating with the Department's Office of Innovation and Improvement (OII) to plan and implement the study of the relationship between magnet school conversion and student outcomes at the elementary school level.

The study will occur in two phases during which the following questions will be addressed:

(1) Are sufficient data available from the 2004 and 2007 Magnet Schools Assistance Program (MSAP) grantees to conduct an evaluation of elementary conversion magnet schools and provide descriptive analyses of such schools?

(2) What is the relationship of magnet school conversion to (i) The educational achievement of students attending the magnet schools that are their neighborhood schools (resident students); (ii) the reduction of minority group isolation in the magnet schools and corresponding district; and, (iii) the educational achievement of non-resident students who apply for admission to over-subscribed magnet programs?

The system will contain information about elementary school students who attend approximately (i) 50 conversion magnet schools and (ii) 100 elementary schools that are not magnet schools that will serve as comparison elementary schools for the purposes of this study. The total number of elementary school students included in this system of records will be approximately 15,000 per year for the years 2004-2005 through 2009-2010 and approximately 7,500 per year for the years 2001-2002 through 2003-2004. The 50 magnet schools in the study are drawn from school districts that were awarded MSAP grants by OII in 2004 and/or 2007. For each conversion magnet school and its comparison schools, data will be collected for the three years before and for at least the three years after the conversion date.

The system of records will include information about students who attend the elementary schools participating in the evaluation including demographic information (such as race/ethnicity, gender, age, and language status); attendance zone; grade level; and annual English language arts and mathematics test scores.

DATES: The Department seeks comment on the new system of records described in this notice, in accordance with the requirements of the Privacy Act. We must receive your comments on the proposed routine uses for the system of records referenced in this notice on or before October 1, 2007.

The Department filed a report describing the new system of records covered by this notice with the Chair of the Senate Committee on Homeland Security and Governmental Affairs, the Chair of the House Committee on Oversight and Government Reform, and the Administrator of the Office of Information and Regulatory Affairs, Office of Management and Budget (OMB) on August 28, 2007. This system of records will become effective at the later date of—(1) The expiration of the 40-day period for OMB review on October 9, 2007 or (2) October 1, 2007, unless the system of records needs to be changed as a result of public comment or OMB review.

ADDRESSES: Address all comments about the proposed routine uses to Dr. Ricky Takai, Director, Evaluation Division, National Center for Education Evaluation and Regional Assistance, Institute of Education Sciences, U.S. Department of Education, 555 New Jersey Avenue, NW., Room 502D, Washington, DC 20208. Telephone: (202) 208-7083. If you prefer to send comments through the Internet, use the following address: http://comments@ed.gov.

You must include the term “Evaluation of Conversion Magnet Schools” in the subject line of the electronic message.

During and after the comment period, you may inspect all comments about this notice in Room 502D, 555 New Jersey Avenue, NW., Washington, DC, between the hours of 8 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a) requires the Department to publish in the Federal Register this notice of a new system of records maintained by the Department. The Department's regulations implementing the Privacy Act are contained in Part 5b of Title 34 of the Code of Federal Regulations (CFR).

The Privacy Act applies to information about individuals that contains individually identifiable information and that is retrieved by a unique identifier associated with each individual, such as a name or social security number. The information about each individual is called a “record,” and the system, whether manual or computer-based, is called a “system of records.” The Privacy Act requires each agency to publish notices of systems of records in the Federal Register and to prepare reports to the OMB and Congress whenever the agency publishes a new system of records. Each agency is also required to send copies of the report to the Chair of the Senate Committee on Homeland Security and Governmental Affairs and the Chair of the House Committee on Oversight and Government Reform. These reports are intended to permit an evaluation of the probable effect of the proposal on the privacy rights of individuals.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 28, 2007.
Grover Whitehurst,
Director, Institute of Education Sciences.

For the reasons discussed in the preamble, the Director of the Institute of Education Sciences, U.S. Department of Education, publishes a notice of a new system of records to read as follows:

18-13-18

SYSTEM NAME:

Evaluation of Conversion Magnet Schools.

SECURITY CLASSIFICATION:

None.

SYSTEM LOCATION:

(1) Evaluation Division, National Center for Education Evaluation and Regional Assistance, Institute of Education Sciences, U.S. Department of Education, 555 New Jersey Avenue, NW., Room 502D, Washington, DC 20208.

(2) American Institutes for Research, 1070 Arastradero Road, Suite 200, Palo Alto, CA 94304.

(3) Berkeley Policy Associates, 440 Grand Avenue, Suite 500, Oakland, CA 94610-5085.

CATEGORIES OF INDIVIDUALS COVERED BY THE SYSTEM:

This system contains records on elementary school students attending an elementary school in school districts that are recipients of Magnet Schools Assistance Program (MSAP) grants in 2004 and/or 2007. The system will contain information about students who attend approximately (i) 50 conversion magnet schools and (ii) 100 elementary schools that are not magnet schools that will serve as comparison elementary schools for the purposes of this study. The total number of elementary school students included in this system of records will be approximately 15,000 per year for the years 2004-2005 through 2009-2010 and approximately 7,500 per year for the years 2001-2002 through 2003-2004. The 50 magnet schools in the study are drawn from school districts that were awarded MSAP grants by the U.S. Department of Education's Office of Innovation and Improvement in 2004 and/or 2007. For each conversion magnet school and its comparison schools, data will be collected for the three years before or for at least the three years after the conversion date.

CATEGORIES OF RECORDS IN THE SYSTEM:

The system of records will include information about the elementary school students participating in the evaluation including student demographic information (such as race/ethnicity, gender, age, and language status); attendance zone; grade level; and annual English language arts (ELA) and mathematics test scores.

AUTHORITY FOR MAINTENANCE OF THE SYSTEM:

The MSAP, the program being evaluated, is authorized under the Elementary and Secondary Education Act of 1965, as amended, Title V, Part C; 20 U.S.C. 7231-7231j. Sections 5301-5311 of the No Child Left Behind Act of 2001 (NCLB) most recently amended this program. Section 5310 of the NCLB statute authorizes the Secretary of Education to use MSAP monies to evaluate the program. The evaluation being conducted is authorized under sections 171(b) and 173 of the Education Sciences Reform Act of 2002 (ESRA) (20 U.S.C. 9561(b) and 9563).

PURPOSE(S):

The goal of this study is to assess the relationship between magnet school conversion and student outcomes at the elementary school level. In particular, this system is necessary to provide information about whether and how students' educational achievement and minority group isolation change when elementary schools convert to magnet schools.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Act, under a computer matching agreement. Any disclosure of individually identifiable information from a record in this system must also comply with the requirements of section 183 of the ESRA (20 U.S.C. 9573) providing for confidentiality standards that apply to all collections, reporting and publication of data by IES.

Contract Disclosure. If the Department contracts with an entity for the purposes of performing any function that requires disclosure of records in this system to employees of the contractor, the Department may disclose the records to those employees. Before entering into such a contract, the Department must require the contractor to maintain Privacy Act safeguards as required under 5 U.S.C. 552a(m) with respect to the records in the system.

DISCLOSURE TO CONSUMER REPORTING AGENCIES:

Not applicable to this system notice.

POLICIES AND PRACTICES FOR STORING, RETRIEVING, ACCESSING, RETAINING, AND DISPOSING OF RECORDS IN THE SYSTEM STORAGE:

The Department maintains records on CD-ROM, and the contractor and subcontractor maintain data for this system on computers and in hard copy.

RETRIEVABILITY:

Records in this system are indexed by a number assigned to each individual that is cross referenced by the individual's name on a separate list.

SAFEGUARDS:

All physical access to the Department's site and to the sites of the Department's contractor and subcontractor, where this system of records is maintained, is controlled and monitored by security personnel. The computer system employed by the Department offers a high degree of resistance to tampering and circumvention. This security system limits data access to Department and contract staff on a “need to know” basis, and controls individual users' ability to access and alter records within the system. The contractor and subcontractor will establish similar sets of procedures at their sites to ensure confidentiality of data. Their systems are required to ensure that information identifying individuals is in files physically separated from other research data. The contractor and subcontractor will maintain security of the complete set of all master data files and documentation. Access to individually identifiable data will be strictly controlled. At each site all data will be kept in locked file cabinets during nonworking hours, and work on hardcopy data will take place in a single room, except for data entry. Physical security of electronic data will also be maintained. Security features that protect project data include: password-protected accounts that authorize users to use the contractor's and subcontractor's systems but to access only specific network directories and network software; user rights and directory and file attributes that limit those who can use particular directories and files and determine how they can use them; and additional security features that the network administrators will establish for projects as needed. The contractor and subcontractor employees who “maintain” (collect, maintain, use, or disseminate) data in this system shall comply with the requirements of the confidentiality standards in section 183 of the ESRA (20 U.S.C. 9573).

RETENTION AND DISPOSAL:

Records are maintained and disposed of in accordance with the Department's Records Disposition Schedules (Section Ed/RDS, Part 3, Item 2b and Part 3, Item 5a).

SYSTEM MANAGER AND ADDRESS:

Director, Evaluation Division, National Center for Education Evaluation and Regional Assistance, Institute of Education Sciences, U.S. Department of Education, 555 New Jersey Avenue, NW., Room 502D, Washington, DC 20208.

NOTIFICATION PROCEDURE:

If you wish to determine whether a record exists regarding you in the system of records, contact the systems manager. Your request must meet the requirements of regulations in 34 CFR 5b.5, including proof of identity.

RECORD ACCESS PROCEDURE:

If you wish to gain access to your record in the system of records, contact the system manager. Your request must meet the requirements of regulations in 34 CFR 5b.5, including proof of identity.

CONTESTING RECORD PROCEDURE:

If you wish to contest the content of a record regarding you in the system of records, contact the system manager. Your request must meet the requirements of the regulations in 34 CFR 5b.7, including proof of identity.

RECORD SOURCE CATEGORIES:

The system will contain records that are obtained from (i) 50 conversion magnet schools and (ii) 100 elementary schools that are not magnet schools that will serve as comparison elementary schools for the purposes of this study. These data, including students' annual English language arts and mathematics test scores, will be collected from school district databases.

EXEMPTIONS CLAIMED FOR THE SYSTEM:

None.

[FR Doc. E7-17367 Filed 8-30-07; 8:45 am]

BILLING CODE 4000-01-P